FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR Part 225), and all other applicable statutes and regulations to become a bank holding company and/or to acquire the assets or the ownership of, control of, or the power to vote shares of a bank or bank holding company and all of the banks and nonbanking companies owned by the bank holding company, including the companies listed below.

The applications listed below, as well as other related filings required by the Board, are available for immediate inspection at the Federal Reserve Bank indicated. The application also will be available for inspection at the offices of the Board of Governors. Interested persons may express their views in writing on the standards enumerated in the BHC Act (12 U.S.C. 1842(c)). If the proposal also involves the acquisition of a nonbanking company, the review also includes whether the acquisition of the nonbanking company complies with the standards in section 4 of the BHC Act (12 U.S.C. 1843). Unless otherwise noted, nonbanking activities will be conducted throughout the United States. Additional information on all bank holding companies may be obtained from the National Information Center Web site at http://www.ffiec.gov/nic/.

Unless otherwise noted, comments regarding each of these applications must be received at the Reserve Bank indicated or the offices of the Board of Governors not later than April 5, 2007.

A. Federal Reserve Bank of Boston (Richard Walker, Community Affairs Officer) P.O. Box 55882, Boston, Massachusetts 02106-2204:

1. Chittenden Corporation, Burlington, Vermont; to acquire 100 percent of the voting shares of, and thereby merge with Merrill Merchants Bancshares, Inc. and thereby indirectly acquire Merrill Merchants Bank, all located in Bangor, Maine.

In connection with this application, Applicant also has applied to acquire at least 5 percent of the voting shares of M&M Consulting Limited Liability Company, Bangor, Maine, and thereby engage in providing internal audits, loan reviews and regulatory compliance consulting services, generally under one to two year contracts, to New England-based financial institutions, pursuant to sections 225.28(b)(2)(vi) and (b)(9)(i)(A)(1) of Regulation Y, and indirectly acquire Profit Protection LLC, and thereby engage in providing anti-money laundering and bank security seminars/training sessions in Florida and across the country and the publication of banking-related training manuals, pamphlets, video tapes and similar materials, pursuant to section 225.28(b)(9)(i)(A)(1) of Regulation Y.

B. Federal Reserve Bank of Chicago (Patrick M. Wilder, Assistant Vice President) 230 South LaSalle Street, Chicago, Illinois 60690-1414:

1. Minier Financial, Inc. Employee Stock Ownership Plan w/401(k) Provisions, Minier, Illinois; to increase its ownership of Minier Financial, Inc., Minier, Illinois, from 26.12 percent to no more than 51 percent, and thereby increase its indirectly ownership of First Farmers State Bank, Minier, Illinois.

Board of Governors of the Federal Reserve System, March 6, 2007.
Jennifer J. Johnson,
Secretary of the Board.

[FR Doc. E7-4241 Filed 3-8-07; 8:45 am]

BILLING CODE 6210-01-S